DEPARTMENT OF COMMERCE

Foreign-Trade Zones Board

[Docket 25-2008]

Foreign-Trade Zone 76 Bridgeport, CT, Request for Manufacturing Authority, Derecktor Shipyards Conn, LLC (Cruise Ships, Ferries, and Yachts)

An application has been submitted to the Foreign-Trade Zones Board (the Board) by the Bridgeport Port Authority, grantee of FTZ 76, pursuant to Section 400.28(a)(2) of the Board's regulations (15 CFR Part 400), requesting authority on behalf of Derecktor Shipyards Conn, LLC (DSC), to construct and repair passenger vessels under FTZ procedures within FTZ 76. It was formally filed on April 23, 2008.

The DSC shipyard (250 employees, 23 acres, capacity: up to 3 vessels/year) is located at 837 Seaview Avenue within the Bridgeport Regional Maritime Complex (FTZ Site 4 - Parcel B). Under FTZ procedures, DSC would construct and repair cruise ships, excursion boats, ferries, luxury motor and sail yachts, and motorboats (HTSUS 8901.10, 8903.91, 8903.92) for domestic and international customers. Foreign components that would be used at the shipyard (up to 40% of finished vessel value) include: propellers and shafts, steering systems, lighting equipment, anchors, rigging equipment, mooring lines (will be admitted in domestic (duty paid) status), cleats, ovens and ranges, interior fittings and furnishings, decorative film/applications, masts and spars, seats, elastomeric polyurethanes, insulation, cranes, winches, pulleys, swim platforms, stairs, bilge pumps, aluminum tiles/planks/extrusions/sheets, engines, propulsion systems, stern drives, flange couplings, clutches, shafts, anti-fouling systems, marine doors and windows, command levers, hull isolation mounts, cutlery, bed linens (will be admitted in domestic (duty-paid) status), and valves (thermostatic, hydraulic) (duty rate range: free 6.5%, 2.2¢/kg+5%). The request indicates that DSC will not admit any foreign-origin steel mill products to the zone for use in FTZ manufacturing activity.

FTZ procedures would exempt DSC from customs duty payments on the foreign components (except steel mill products) used in export activity. On its domestic sales, the company could be able to choose the duty rate that applies to finished oceangoing vessels (duty free, 1.5%) for the foreign-origin components noted above. Duties could possibly be deferred or reduced on foreign status production equipment admitted by DSC to the zone. The manufacturing and repair activity conducted under FTZ procedures would be subject to the “standard shipyard restriction” applicable to foreign-origin steel mill products (e.g., angles, pipe, plate), which requires that all applicable customs duties be paid on such items. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is July 1, 2008. Rebuttal comments in response to material submitted during the foregoing period may be submitted during the subsequent 15-day period to July 16, 2008.

A copy of the application will be available for public inspection at the Office of the Foreign-Trade Zones Board's Executive Secretary at the address listed above. For further information, contact Pierre Duy at: pierre_duy@ita.doc.gov, or (202) 482-1378.

Dated: April 24, 2008.
Andrew McGilvray,
Executive Secretary.

[FR Doc. E8-9716 Filed 5-1-08; 8:45 am]

BILLING CODE 3510-DS-S